DEPARTMENT OF DEFENSE

Department of the Navy

Notice of Intent To Prepare an Environmental Impact Statement/Overseas Environmental Impact Statement for Military Readiness Activities in the Mariana Islands Training and Testing Study Area and To Announce Public Scoping Meetings

AGENCY: Department of the Navy, DoD.

ACTION: Notice.

SUMMARY: Pursuant to section 102(2)(c) of the National Environmental Policy Act of 1969, as implemented by the Council on Environmental Quality Regulations (40 Code of Federal Regulations parts 1500-1508), and Executive Order 12114, the Department of the Navy (DoN) announces its intent to prepare an Environmental Impact Statement (EIS)/Overseas Environmental Impact Statement (OEIS) to evaluate the potential environmental effects associated with maintaining military readiness training and research, development, testing, and evaluation (hereafter referred to as “training and testing”) activities conducted in the Mariana Islands Training and Testing (MITT) EIS/OEIS Study Area. The MITT Study Area includes the existing Mariana Islands Range Complex (MIRC), additional areas on the high seas, and a general transit corridor between Hawaii to MITT where training and testing activities may occur. The MIRC is the only major Navy range complex in the Study Area.

The DoN is preparing this EIS/OEIS to renew current regulatory permits and authorizations, address current training and testing not covered under existing permits and authorizations, and to obtain those permits and authorizations necessary to support force structure changes and emerging and future training and testing requirements including those associated with new platforms and weapons systems within the MITT Study Area, starting in 2015, thereby ensuring critical Department of Defense (DoD) requirements are met.

The DoN will invite the National Marine Fisheries Service, United States (U.S.) Fish and Wildlife Service (Pacific Islands Fish and Wildlife Office), and U.S. Air Force, to be cooperating agencies in preparation of the EIS/OEIS.

DATES AND ADDRESSES: Five public scoping meetings will be held between 5 and 8 p.m. on:

1. Thursday, September 22, 2011, at the University of Guam, Leon Guerrero School of Business and Public Administration Building, Anthony Leon Guerrero Multi-Purpose Room 129, Mangilao, Guam 96923.

2. Friday, September 23, 2011, at the Southern High School Cafeteria, #1 Jose Perez Leon Guerrero Drive, Santa Rita, Guam 96915.

3. Monday, September 26, 2011, at the Multi-Purpose Center in Susupe, Saipan 96950.

4. Tuesday, September 27, 2011, at the Tinian High School Cafeteria, San Jose Village, Tinian, MP 96952.

5. Wednesday, September 28, 2011, at the Sinapalo Elementary School Cafeteria, Sinapalo I, Songsong Village, Rota, MP 96951

Each of the five scoping meetings will consist of an informal, open house session with information stations staffed by DoN representatives. Meeting details will be announced in local newspapers. Additional information concerning meeting times will be available on the EIS/OEIS Web page located at: http://www.mitt-eis.com.

FOR FURTHER INFORMATION CONTACT: Ms. Nora Macariola-See, Naval Facilities Engineering Command, Pacific. Attention: MITT EIS/OEIS, 258 Makalapa Drive, Suite 100, Building 258, Floor 3, Pearl Harbor, Hawaii 96860-3134.

SUPPLEMENTARY INFORMATION: The DoN's proposed action is to conduct military training and testing activities, including the use of active sonar and explosives, within the MITT Study Area. While the majority of training and testing activities take place in established training and testing areas, some activities, such as sonar maintenance and gunnery exercises are conducted concurrent with normal transits.

The MIRC is one component of the MITT Study Area, encompassing 501,873 square nautical miles of open ocean. In addition to the areas covered within the MIRC, the Study Area also includes additional areas on the high seas and transit corridors where training and testing activities may occur.

The proposed action is to conduct military training and testing activities in the MITT study area. The purpose of the proposed action is to achieve and maintain military readiness to meet the requirements of Title 10 of the U.S. Code, thereby ensuring that the DoN and other Services meet their mission to maintain, train, and equip combat-ready military forces capable of winning wars, deterring aggression, and maintaining freedom of the seas.

Three alternatives will be analyzed in the MITT EIS/OEIS. The No Action Alternative would continue baseline training and testing activities, as defined by existing environmental planning documents.

Alternative 1 consists of baseline training and testing activities and overall expansion of the Study Area plus adjustments to types and levels of activities as necessary to support current and planned military training and testing requirements. This Alternative considers activities conducted throughout the Study Area and mission requirements associated with force structure changes, including those resulting from the development, testing, and ultimate introduction of new platforms (vessels, aircraft) and weapons systems.

Alternative 2 consists of Alternative 1 plus the establishment of new range capabilities, modifications of existing capabilities, adjustments to type and tempo of training and testing activities, and the establishment of additional locations to conduct training and testing activities within the Study Area.

Resource areas that will be addressed because of the potential effects from the Proposed Action include, but are not limited to, ocean and biological resources (including marine mammals and threatened and endangered species), terrestrial resources, air quality, noise, cultural resources, transportation, regional economy, recreation, and public health and safety.

The scoping process will be used to identify community concerns and local issues that will be addressed in the EIS/OEIS. Federal agencies, state agencies, local agencies, the public, and interested persons are encouraged to provide comments to the DoN to identify specific issues or topics of environmental concern that the commenter believes the DoN should consider. All comments provided orally or in writing at the scoping meetings, will receive the same consideration during EIS/OEIS preparation. Written comments must be postmarked no later than November 7, 2011, and should be mailed to: Naval Facilities Engineering Command, Pacific, 258 Makalapa Drive, Suite 100, Pearl Harbor, HI 96869-3134, Attention: MITT EIS/OEIS Project Manager.

Dated: September 1, 2011.
L.M. Senay,
Lieutenant, Judge Advocate General's Corps, U.S. Navy, Alternate Federal Register Liaison Officer.

[FR Doc. 2011-22985 Filed 9-7-11; 8:45 am]

BILLING CODE 3810-FF-P